FEDERAL MARITIME COMMISSION

Notice of Termination of Certificates Issued to Premier Operations Ltd. (D/B/A Premier Cruises and Premier Cruise Lines)

Notice is given of the termination of all certificates issued by the Federal Maritime Commission to Premier Operations Ltd. (d/b/a Premier Cruises and Premier Cruise Lines) (“Premier”) pursuant to sections 2 and 3 of Public Law 89-777, 46 U.S.C. app. Sections 817d and e. Premier has ceased operations, and bankruptcy proceedings have been initiated in the Supreme Court of Bermuda to liquidate Premier. In addition, the Commission has been notified of the termination of coverage provided to Premier under various financial instruments. That coverage, in the form of a surety bond for performance and guaranties for casualty, provided the necessary evidence of financial responsibility for issuing Commission certificates to Premier. Accordingly, all casualty and performance certificates as specified below have, or soon will, become null and void.

Premier currently holds Certificates (Casualty) and Certificates (Performance) for vessels as identified below.

Vessel | Casualty certificate No. | Performance certificate No.
THE BIG RED BOAT II (ex EDINBURGH CASTLE) | C-1603 | P-670
THE BIG RED BOAT III (ex ISLANDBREEZE) | C-1597 | P-691
OCEANBREEZE | C-1533 | N/A
OCEANIC (THE BIG RED BOAT) | C-1550 | P-673
REMBRANDT | C-1551 | P-674
SEABREEZE I | C-1552 | P-675

Guarantors who provided evidence of financial responsibility supporting the above listed casualty certificates notified the Commission on September 14, 2000, and September 18, 2000, that the guaranties would be terminated on October 14, 2000, and October 18, 2000, respectively. Accordingly, pursuant to 46 CFR 540.26(a), the above identified casualty certificates have become null and void.

All of the performance certificates are supported by a surety bond issued by Greenwich Insurance Company and NAC Reinsurance Corporation in the amount of $15 million. On September 26, 2000, the surety notified the Commission of the cancellation of the surety bond effective October 26, 2000. Since Premier has ceased operations and is in the process of being liquidated, the above identified performance certificates shall become null and void effective October 26, 2000, pursuant to 46 CFR 540.8(a).

This notice is issued under the authority of 46 CFR 501.27(h)(5).

Sandra L. Kusumoto,
Director, Bureau of Consumer Complaints and Licensing.

[FR Doc. 00-28045 Filed 10-31-00; 8:45 am]

BILLING CODE 6730-01-P